DEPARTMENT OF DEFENSE

Office of the Secretary

[Docket ID: DoD-2014-OS-0047]

Privacy Act of 1974; System of Records

AGENCY: Defense Health Agency, DoD.

ACTION: Notice to alter a System of Records.

SUMMARY: The Defense Health Agency proposes to alter an existing system of records, EDHA 10, entitled “DoD Women, Infants, and Children Overseas Participant Information Management System” in its inventory of record systems subject to the Privacy Act of 1974 (5 U.S.C. 552a), as amended. This system will be used to determine whether applicants are eligible for enrollment in the WIC Overseas Program, provide benefits to participants, and evaluate the effectiveness of those benefits.

DATES: Comments will be accepted on or before May 9, 2014. This proposed action will be effective on the day following the end of the comment period unless comments are received which result in a contrary determination.

ADDRESSES: You may submit comments, identified by docket number and title, by any of the following methods:

* Federal Rulemaking Portal: http://www.regulations.gov

Follow the instructions for submitting comments.

* Mail: Federal Docket Management System Office, 4800 Mark Center Drive, East Tower, 2nd Floor, Suite 02G09, Alexandria, VA 22350-3100.

Instructions: All submissions received should include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, Defense Health Agency, Defense Health Headquarters, 7700 Arlington Boulevard, Suite 5101, Falls Church, VA 22042-5101, or by telephone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Office Web site http://dpclo.defense.gov/.

The proposed system report, as required by 5 U.S.C. 552a(r) of the Privacy Act of 1974, as amended, was submitted on March 10, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 3, 2014.
Aaron Siegel,
Alternate OSD Federal Register Liaison Officer, Department of Defense.

EDHA 10

System name:

DoD Women, Infants, and Children Overseas Participant Information Management System (November 18, 2013, 78 FR 69076).

Changes:

* * * * *

System location:

Delete entry and replace with “Choctaw Contracting Services, 2161 NW Military Highway, Suite 214, San Antonio, TX 78213-1844, and at Department of Defense (DoD) installations located outside the United States. For a complete listing of facility addresses that maintain records, contact the system manager.”

Categories of individuals covered by the system:

Delete entry and replace with “Members of the Armed Forces, civilian employees, and DoD contractors, and their family members, who apply for the DoD Women, Infants, and Children (WIC) Overseas Program.”

Categories of records in the system:

Delete entry and replace with “Records about the applicant or participant may include: Name; truncated Social Security Number (SSN) and/or DoD Identification Number (DoD ID Number); contact information (telephone numbers, mailing addresses, and email addresses); demographic information (gender, race, ethnicity, date of birth, and marital status); household income; spousal information (name, contact, and education information); information about children (number, names, and dates of birth); education of primary caregiver; employment information; primary household languages; medical history and conditions related to nutritional needs; nutrition information; and WIC Overseas Program benefits or other nutritional services received.

Records about the sponsor may include: Name; truncated SSN and/or DoD ID Number; contact information; military status; military records; spouse's name and contact information; and other family members' names and contact information.”

Authority for maintenance of the system:

Delete entry and replace with “10 U.S.C. 1060a, Special supplemental food program; 42 U.S.C. Chapter 13A, Child Nutrition; 7 CFR Part 246, Special Supplemental Nutrition Program for Women, Infants and Children; 32 CFR 199.23, Special Supplemental Food Program; HA Policy 09-004, Policy Memorandum for Women, Infants, and Children Overseas Program; and E.O. 9397 (SSN), as amended.”

Purpose(s):

Delete entry and replace with “To determine whether applicants are eligible for enrollment in the WIC Overseas Program, provide benefits to participants, and evaluate the effectiveness of those benefits.”

Routine uses of records maintained in the system, including categories of users and the purposes of such uses:

Delete entry and replace with “In addition to those disclosures generally permitted under 5 U.S.C. 552a(b) of the Privacy Act of 1974, as amended, these records may be specifically disclosed outside the DoD as a routine use pursuant to 5 U.S.C. 552a(b)(3) as follows:

The DoD Blanket Routine Uses may apply to this system of records.”

Policies and practices for storing, retrieving, accessing, retaining, and disposing of records in the system:

Storage:

Delete entry and replace with “Paper files and/or electronic storage media.”

Retrievability:

Delete entry and replace with “Individual's name, truncated SSN and/or DoD ID Number.”

Safeguards:

Delete entry and replace with “Records are maintained in access controlled facilities. Physical entry is restricted by the use of locks, guards, or administrative procedures to officials who require access to perform their official duties. Computer terminals are located in supervised areas with access control. Electronic system access requires either a Common Access Card and personal identification number or a unique logon identification and password that must be frequently changed. Access to the electronic system is further restricted based on user responsibility. Proper data protection training is required for all personnel whose official duties require access to the records.”

Retention and disposal:

Delete entry and replace with “Records maintained in electronic format are considered a duplicate copy of the hard copy record and will be destroyed when no longer needed for business purposes/functions. Electronic files stored at the Choctaw Contracting Services system location (consolidated files) will be destroyed three years after termination (no longer active) and electronic files stored at DoD installations located outside the United States will be deleted one year after termination.”

System manager(s) and address:

Delete entry and replace with “Program Manager, WIC Overseas Program, TRICARE Overseas Program Office, Defense Health Agency, Defense Health Headquarters, 7700 Arlington Boulevard, Suite 5101, Falls Church, VA 22042-5101.”

Notification procedure:

Delete entry and replace with “Individuals seeking to determine whether information about themselves is contained in this system of records should address written inquiries to the Chief, Freedom of Information Act (FOIA) Service Center, Defense Health Agency Privacy and Civil Liberties Office, Defense Health Headquarters, 7700 Arlington Boulevard, Suite 5101, Falls Church, VA 22042-5101.

Requests should contain the individual's full name, truncated SSN or DoD ID Number, current address, and telephone number.”

Record access procedures:

Delete entry and replace with “Individuals seeking access to records about themselves contained in this system of records should address written inquiries to the Chief, FOIA Service Center, Defense Health Agency Privacy and Civil Liberties Office, Defense Health Headquarters, 7700 Arlington Boulevard, Suite 5101, Falls Church, VA 22042-5101.

Requests should contain the individual's full name, truncated SSN or DoD ID Number, current address, telephone number, and signature. Records should also include the name and number of this system of records notice.”

Contesting record procedures:

Delete entry and replace with “The Office of the Secretary of Defense (OSD) rules for accessing records, contesting contents, and appealing initial agency determinations are published in OSD Administrative Instruction 81; 32 CFR Part 311; or may be obtained from the system manager.”

Record source categories:

Delete entry and replace with “WIC Overseas Program applicants, participants, and sponsors.”

* * * * *

[FR Doc. 2014-07870 Filed 4-8-14; 8:45 am]

BILLING CODE 5001-06-P